DEPARTMENT OF TRANSPORTATION

Federal Aviation Administration

[Docket # FAA-2026-0005]

FAA Contract Tower Competitive Grant Program; Fiscal Year (FY) 2026 Funding Opportunity

AGENCY: Federal Aviation Administration (FAA), Department of Transportation (DOT).

ACTION: Notice of funding opportunity.

SUMMARY: The Department of Transportation (DOT), Federal Aviation Administration (FAA) announces the opportunity to apply for up to $120 million in Fiscal Year (FY) 2026 Airport Infrastructure Grant funds for the FAA Contract Tower (FCT) Competitive Grant Program, made available under the Infrastructure Investment and Jobs Act of 2021 (IIJA), Public Law 117-58. The purpose of the FCT Competitive Grant Program is to make annual grants available to eligible airports for airport-owned airport traffic control tower (ATCT) projects that address the aging infrastructure of our nation's airports.

DATES: Airport sponsors seeking consideration for FY 2026 FCT Competitive Grant Program funding should submit FAA Form 5100-144 as soon as possible, but no later than 5:00 p.m. Eastern Time on, February 17, 2026.

ADDRESSES: Submit applications electronically at https://www.faa.gov/bil/airport-infrastructure/fct by following the instructions under Frequently Asked Questions, “How to apply.”

FOR FURTHER INFORMATION CONTACT: Jesse Carriger, Manager, FAA Office of Airports IIJA Infrastructure Branch (APP-540), at (202) 267-9590 or IIJA.Airports@faa.gov.

SUPPLEMENTARY INFORMATION: The IIJA established the FCT Competitive Grant Program that will provide up to $20 million in grant funding for FY 2026 and up to $100 million of FY 2022 unobligated Airport Infrastructure Grant (AIG) funding to sustain, construct, repair, improve, rehabilitate, modernize, replace, or relocate non-approach control towers; acquire and install air traffic control, communications, and related equipment to be used in those towers; or construct a remote tower certified by the FAA, including acquisition and installation of air traffic control, communications, or related equipment.

The full text of the Notice of Funding Opportunity (NOFO) is available on the FAA's website at FAA Contract Tower Competitive Grant Program | Federal Aviation Administration. For more information applicants may also search Grants.gov using Funding Opportunity Number FAA-ARP-IIJA-G-26-002 or Assistance Listing Number 20.117. Mail and fax submissions will not be accepted.

Issued in Washington, DC, on January 16, 2026.
Jesse Carriger,
Manager, FAA Office of Airports IIJA Infrastructure Branch, APP-540.

[FR Doc. 2026-01042 Filed 1-20-26; 8:45 am]

BILLING CODE 4910-13-P